EXPORT-IMPORT BANK OF THE U.S.

[Public Notice 126]

Agency Information Collection Activities: Final Collection; Comment Request

AGENCY: Export-Import Bank of the U.S.

ACTION: Submission for OMB review and comments request.

Form Title: Competitiveness Report Survey EIB 00-02 OMB 3048-003.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically.

The purpose of this survey is to fulfill the statutory mandate (Export-Import Act of 1945, as amended, 12 U.S.C. 635) which directs the Export-Import Bank to report annually to Congress any action taken toward providing export credit programs that are competitive with those offered by official foreign export credit agencies.

The following changes have been made to the survey:

1. Added question—Years in Business in Part 1, Question 1.

2. Removed “Medium-term Loan” as an option in Part 1, Question 4.

3. Added question—How many applications did your organization file with Ex-Im Bank in CY 2009 in Part 1, Question 2.

4. Changed the option “Never” to “N/A” in Part 2, Questions 1 and 2.

5. Removed the option “N/A” in “Other” in Part 2, Questions 1 and 2.

6. Added “Services” category to Part 3, Question 3.

7. Added “Local Costs” to Part 3, Question 5.

DATES: Comments should be received on or before December 22, 2009 to be assured of consideration.

ADDRESSES: Comments may be submitted through http://www.Regulations.Gov or mailed to Monika Edwards, Export-Import Bank of the United States, 811 Vermont Ave., NW., Washington, DC 20571.

SUPPLEMENTARY INFORMATION:

Titles and Form Number: EIB 00-02 Competitiveness Report Survey.

OMB Number: 3048-003.

Type of Review: Regular.

Need and Use: This information will be used to report annually to Congress any action taken toward providing export credit programs that are competitive with those offered by official foreign export credit agencies.

Affected Public: This form affects entities involved in the export of U.S. goods and services.

Annual Number of Respondents: 125.

Estimated Time per Respondent: 0.05 hours.

Government Annual Burden Hours: 6.25.

Frequency of Reporting or Use: Yearly.

BILLING CODE 6690-01-P

BILLING CODE 6690-01-C

PART 1—ATTACHMENT

Dropdown answers:

(1) Compared to 2002, my 2003 volume of exports/trade finance was:

○ Higher

○ Same

○ Lower

(2) 2003 total sales volume:

○ <$10 million

○ $10-$50 million

○ $51-100 million

○ $101-$500 million

○ $501 million-$1 billion

○ >$1 billion

(3) 2003 total U.S. export sales volume:

○ <$10 million

○ $10-$50 million

○ $51-100 million

○ $101-$500 million

○ $501 million-$1 billion

○ >$1 billion

(4) % of total export sales volume that was Ex-Im Bank supported:

○ <10%

○ 10%-25%

○ 26%-50%

○ 51%-75%

○ >75%

(5) 2003 total export credit extended with a term over one year:

○ <$10 million

○ $10-$50 million

○ $51-100 million

○ $101-$500 million

○ $501 million-$1 billion

○ >$1 billion

(6) % of 2003 total export credit extended with a term over one year that was Ex-Im Bank supported:

○ <10%

○ 10%-25%

○ 26%-50%

○ 51%-75%

○ >75%

PART 2—ATTACHMENT

(1) Dropdown answers:

Experience with foreign ECAs (receiving support from or facing competitors supported by):

○ Frequent

○ Regular

○ Rare

○ None

(2) Pop-up definitions:

Part/Section | Term/phrase | Definition
Part 2, Challenge/Need | Face competition from companies that receive ECA support |
| Find a lack of useful private market financing available | Private market financing is either unavailable for the term or market or is so expensive as to be prohibitive.
| Need continuing U.S. government involvement | For example, in certain transactions, a long-term presence of the U.S. government is a useful transactional security blanket, even if not financially necessary to fund the transaction.

PART 3—ATTACHMENT

(1) Grades definition:

A+ | Fully competitive | Consistently equal to the (or is the sole) ECA offering the most competitive position on this element. Levels the playing field on this element with the most competitive offer from any of the major ECAs.
A | Generally competitive | Consistently offers terms on this element equal to the average terms of the typical major ECA. Levels the playing field on this element with the typical offer from the major ECAs.
A−/B+ |  | In between A and B.
B | Modestly competitive | Consistently offers terms on this element equal to the least competitive of the major ECAs. Does not quite level the playing field on this element with most of the major ECAs.
B−/C+ |  | In between B and C.
C | Barely competitive | Consistently offers terms on this element that are a notch below those offered by any of the major ECAs. Puts exporter at financing disadvantage on this element that may, to a certain extent, be compensated for in other elements or by exporter concessions.
C−/D+ |  | In between C and D.
D | Uncompetitive | Consistently offers terms on this element that are far below those offered by other major ECAs. Puts exporter at financing disadvantage on this element so significant that it is difficult to compensate for and may be enough to lose a deal.
F | Does not offer program or element |

Pop-up definitions:

Part/Section | Term/phrase | Definition
Part 3, Core Business Policies and Practices | Ex-Im Bank's Cover Policy | Please compare the following elements of Ex-Im Bank's willingness to cover political and commercial risks in a particular country against other ECAs' cover policies.
| Scope of country risk | The number and utility of countries where cover is available.
| Depth of non-sovereign risk | The number, variety and utility of cover available for private buyers.
| Breadth of availability | The number and utility of markets where cover is not restricted by amount or term.
| Interest Rates Provided by Ex-Im Bank | Please compare the interest rates available under Ex-Im Bank programs (including those offered by the private sector lenders who benefit from Ex-Im's guarantee or insurance) to those available from other ECAs.
| Loans (CIRR) | The official fixed Commercial Interest Reference Rate offered under Ex-Im Bank's direct loan program.
| Insurance Cover | The interest rates offered by banks using Ex-Im Bank's medium-term insurance program.
| Guarantee Cover | The interest rates offered by banks using Ex-Im Bank's guarantee program.
| Ex-Im Bank's Risk Premia on: | Please compare the following types of exposure or risk fee charged by Ex-Im Bank to the fees charged by other ECAs.
| Sovereign | The exposure fee charged by Ex-Im Bank for transactions to sovereign buyers or guaranteed by sovereign entities.
| Non-sovereign | The exposure fee charged by Ex-Im Bank for transactions to public non-sovereign or private sector buyers.
Part 3, Major Programs and Performance | Ex-Im Bank's Large Aircraft Program | Please compare the following elements of Ex-Im Bank's large aircraft program to the aircraft programs of other ECAs.
| Fixed interest rate level | The interest rates available under Ex-Im Bank's aircraft program.
| Percentage of cover | The percentage of the transaction value underwritten by Ex-Im Bank.
| Risk capacity | Ex-Im Bank's ability to take on a variety of risks in its aircraft program.
| Ex-Im Bank' Project Finance | Please compare the following elements of Ex-Im Bank's project finance program to those of other ECAs' programs.
| Core program features | Availability of coverage for pre- and post-completion risks, interest during construction, local costs support.
| Repayment flexibilities | Willingness and ability to use available OECD repayment flexibilities.
| Ex-Im Bank's Co-financing | Please compare the following elements of Ex-Im Bank's co-financing program to those of other ECAs' co-financing programs.
| # and utility of bilateral agreements | Availability and utility of co-financing framework agreements between Ex-Im Bank and another ECA.
| Flexibility in one-off deals | Availability and willingness to do one-time co-financing transactions without a bilateral framework agreement.
| Ex-Im Bank's Foreign Currency Guarantees | Please compare Ex-Im Bank's ability to guarantee loans denominated in foreign currencies compared to that of other ECAs.
| Availability of hard currency cover | Availability of cover for freely convertible and readily available currencies of developed countries, such as the Japanese yen, the Euro, and the Swiss franc.
| Availability of local currency cover | Availability of cover for the currencies of the buyer, typically located in emerging market countries, such as the Mexican peso, South African rand, and Indian rupee.
| Pricing | The exposure fee charged by Ex-Im Bank under its foreign/local currency guarantee program.
| Ex-Im Bank's Support for Services Exports | Please compare the following elements of Ex-Im Bank's support for services (intangible exports such as engineering and design services) to the support provided by other ECAs.
| Availability | How easy it is to attain medium- or long-term Ex-Im Bank support for services exports (on a stand-alone basis, i.e., without being bundled with exports of goods).
| Repayment terms | The repayment terms Ex-Im Bank offers for services exports.

Competitive Impact Definition

+ | Positive | Philosophy, policy or program has a positive impact on Ex-Im Bank's competitiveness (moves Ex-Im Bank's competitiveness grade up one notch).
* | Neutral | Philosophy, policy or program has a positive impact on Ex-Im Bank's competitiveness (no impact on Ex-Im Bank's competitiveness grade).
− | Negative | Philosophy, policy or program has a positive impact on Ex-Im Bank's competitiveness (moves Ex-Im Bank's competitiveness grade down one notch).

Part 3, Economic Philosophy | Tied Aid | The offer of concessional credits to buyer countries in return for the purchase of U.S. goods.
| Market windows | Ex-Im Bank's response to the provision of export credits on “market terms” by a government ECA or government-supported financial institution.
Part 3, Public Policies | Economic Impact | The requirement to assess whether Ex-Im Bank financing of a particular export will cause substantial injury to U.S. industry or result in the production of a good that is subject to a trade measure.
| Foreign content | Inclusion of eligible content that originated outside the U.S. and the buyer's country in a U.S. supply contract.
| Local costs | Support for export-related costs that are incurred in the buyer's country.
| PR 17/Shipping | The requirement that exports support by Ex-Im Bank's medium- and long-term loans and long-term guarantees be shipped on U.S. flag vessels.
| Environment | Environmental review procedures, policies and requirements.

Competitiveness Weighting

Now that you have graded Ex-Im Bank in several areas, please weight the overall importance of each of the four broad categories listed above to Ex-Im Bank's overall competitiveness. Please ensure that the sum of your weights equals 100%.

Core Business Policies and Practices | [0-100%]
Major Programs and Performance | [0-100%]
Economic Philosophy | [0-100%]
Public Policies | [0-100%]

Sharon A. Whitt,
Agency Clearance Officer.

[FR Doc. E9-25442 Filed 10-22-09; 8:45 am]

BILLING CODE 6690-01-P